DEPARTMENT OF THE INTERIOR

National Park Service

[NPS-WASO-NRNHL-DTS#-27403; PPWOCRADI0, PCU00RP14.R50000]

National Register of Historic Places; Notification of Pending Nominations and Related Actions

AGENCY: National Park Service, Interior.

ACTION: Notice.

SUMMARY: The National Park Service is soliciting comments on the significance of properties nominated before February 23, 2019, for listing or related actions in the National Register of Historic Places.

DATES: Comments should be submitted by March 22, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before February 23, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CALIFORNIA

Ventura County

Thacher School Historic District, 5025 Thacher Rd., Ojai, SG100003579

FLORIDA

Brevard County

Cocoa Junior High School, (Florida's Historic Black Public Schools MPS), 307 Blake Ave., Cocoa, MP100003581

Cocoa Post Office, (Florida's New Deal Resources MPS), 435 Brevard Ave., Cocoa, MP100003582

Polk County

Spook Hill, North Wales Dr. between Burns Ave. and Spook Hill Elementary, Lake Wales, SG100003585

Volusia County

Eastwood Terrace Hotel, 442 E New York Ave., Deland, SG100003586

MAINE

Aroostook County

Former Town Office and Jail, 47 Burleigh St., Island Falls, SG100003587

Kennebec County

Mt. Merici Historic District, 152 Western Ave. & 99 St. Angela Way, Watervillle, SG100003588

Knox County

Singhi Double House, 198-200 Broadway, Rockland, SG100003589

MONTANA

Lewis and Clark County

Lyman-Neel Residence, (African-American Heritage Places in Helena, Montana MPS), 309 N. Rodney St., Helena, MP100003590

NEW HAMPSHIRE

Carroll County

Pickering House, 116 S Main St., Wolfeboro, SG100003596

Rockingham County

Scamman Farm, 69 Portsmouth Ave., Stratham, SG100003597

NEW JERSEY

Camden County

Lucas, John, House, 10 Clemonton Rd. E., Gibbsboro, SG100003591

Tomlinson, Ephraim and Sarah, House, 710 W Laurel Rd., Stratford, SG100003592

Gloucester County

Morgan, George Jr., and Sarah, House, 208 Egg Harbor Rd., Washington Township, SG10000359

PENNSYLVANIA

Philadelphia County

First Federal Savings and Loan Association of Philadelphia, Northeast Branch, 1907-1925 Cottman Ave., Philadelphia, SG100003595

TEXAS

Collin County

Texas Pool, 901 Springbrook Dr., Plano, SG100003598

Dallas County

Ambassador Hotel, 1300 S Ervay, Dallas, SG100003599

Travis County

Fiesta Gardens, 2101 Jesse E. Segovia St., Austin, SG100003600

VIRGINIA

Amherst County

Madison Heights Elementary School, 123 Phelps Rd., Madison Heights, SG100003601

Bath County

Fort Lewis, 603 Old Plantation Way, Millboro vicinity, SG100003602

Clarke County

Locke's Mill, 1600 Locke's Mill Rd., Berryville vicinity, SG100003603

Culpeper County

Culpeper Municipal Electric Plant and Waterworks, 410-414 Spring St., Culpeper vicinity, SG100003604

James City County

Toano Historic District, 7852-7960 Richmond Rd., Toano, SG100003605

Virginia Beach Independent City

Cavalier Shores Historic District, Generally bounded by 42nd St./Cavalier Dr., Hollies Rd., 45th St. & the Atlantic Ocean, Virginia Beach, SG100003606

Additional documentation has been received for the following resource:

NEW YORK

Nassau County

Mitchel Air Base and Flight Line, Roughly Charles Lindbergh Blvd., Ellington Ave., East & West Rds., Uniondale, AD100002385

Authority: Section 60.13 of 36 CFR part 60.

Dated: February 26, 2019.
Christopher Hetzel,
Acting Chief, National Register of Historic Places/National Historic Landmarks Program.

[FR Doc. 2019-04119 Filed 3-6-19; 8:45 am]

BILLING CODE 4312-52-P